SMALL BUSINESS ADMINISTRATION

Small Business Information Security Task Force

AGENCY: U.S. Small Business Administration.

ACTION: Notice of meeting minutes.

SUMMARY: The SBA is issuing this notice to publish meeting minutes for the Small Business Information Security Task Force Meeting.

DATES: 1 p.m., Wednesday, October 13, 2010.

ADDRESSES: The meeting was held via teleconference.

SUPPLEMENTARY INFORMATION: Pursuant to section 507(i)(4)(A) of the Credit Card Accountability Responsibility and Disclosure Act of 2009, SBA submits the meeting minutes for the first meeting of the Small Business Information Security Task Force. Chairman, Rusty Pickens, called the meeting to order on October 13, 2010 at 1 p.m. Roll call was taken and a quorum was established. Mr. Pickens thanked the Task Force members for agreeing to serve and for making themselves available for the meeting, noting that the group represented a powerhouse of expertise in information security matters. After covering the general expectations for Task Force meetings, most of which will be conducted by teleconference, Mr. Pickens proposed that one in-person meeting be attempted in the spring of 2011.

Mr. Pickens set forth the ground rules for Task Force operations. Noting that the Task Force is chartered through 2013, he expressed the expectation that its work might be accomplished sooner, proposing a target deadline for the end of 2011 for completion of the Task Force Report to Congress. Mr. Pickens advised the group that as Chair, he will be responsible for providing regular updates on the work of the Task Force to the SBA Administrator. He concluded his introduction by encouraging all members to participate as fully as possible in all discussions to maximize the value of their expertise to the Task Force. He then introduced Frances Henderson of the Council of Better Business Bureaus as Vice-Chair of the Task Force.

Ms. Henderson welcomed the other members to the Task Force and expressed the Council of Better Business Bureau's appreciation for the opportunity to work with the SBA and a distinguished panel of experts on this important topic. She noted that while much valuable work has already been done in both the public and private sectors to disseminate information security standards, guidance and resources to the business community as a whole, there is evidence that these resources have not fully trickled down to, or are not being well utilized by many small businesses, including those in greatest need of help with their information security needs. She expressed the hope that the Task Force could identify the gaps in the information security resources available to small businesses and propose solutions that would benefit both small businesses and consumers.

The other Task Force members each briefly introduced themselves and their organizations, identifying their specific interests and expertise in the work of the Task Force.

The remainder of the meeting was devoted to an open discussion on the focus of the Task Force's work, including the development of a skeleton work plan to be circulated in advance of the next meeting.

The members agreed that meeting frequency should be monthly and that the next meeting date would be November 10, 2010. No other decisions were reached.

In closing, Mr. Pickens introduced Jackie Woodward and Kristi Harmel as support personnel assigned to the Chairperson and the Task Force, and encouraged members to reach out to them with questions.

The meeting was adjourned at 2 p.m.

FOR FURTHER INFORMATION CONTACT: Rusty Pickens, Special Consultant to the Office of the CIO, U.S. Small Business Administration, Rusty.Pickens@sba.gov.

Paul T. Christy,
SBA Chief Information Officer.

[FR Doc. 2010-29136 Filed 11-17-10; 8:45 am]

BILLING CODE 8025-01-P